COMMODITY FUTURES TRADING COMMISSION

Public Roundtable on Individual Customer Collateral Protection

AGENCY: Commodity Futures Trading Commission (“CFTC”).

ACTION: Notice of roundtable discussion; request for comment.

SUMMARY: On October 22, 2010, commencing at 1 p.m. and ending at 4 p.m., staff of the CFTC will hold a public roundtable discussion at which invited participants will discuss certain issues related to individual customer collateral protection in the context of the CFTC's rulemaking efforts pursuant to the Dodd-Frank Wall Street Reform and Consumer Protection Act (the “Act”). The roundtable will focus on protection of customer assets used as collateral in the cleared swap market under section 724(a) of the Act including the appropriate treatment of customer collateral by clearinghouses in the event of a default by a futures commission merchant. The discussion will be open to the public with seating on a first-come, first-served basis. Members of the public may also listen by telephone. Call-in participants should be prepared to provide their first name, last name, and affiliation. The information for the conference call is set forth below.

• US Toll-Free: (866) 844-9416.

• International Toll: 1-203-369-5026.

• Passcode: 8693978.

A transcript of the public roundtable discussion will be published on the CFTC's Web site at http://www.cftc.gov/LawRegulation/DoddFrankAct/OTC_6_SegBankruptcy.html. The roundtable discussion will take place in Lobby Level Hearing Room (Room 1000) at the CFTC's headquarters at Three Lafayette Centre, 1155 21st Street, NW., Washington, DC.

FOR FURTHER INFORMATION CONTACT: The CFTC's Office of Public Affairs at (202) 418-5080.

SUPPLEMENTARY INFORMATION: The roundtable discussion will take place on Friday, October 22, 2010, commencing at 1 p.m. and ending at 4 p.m. Members of the public who wish to comment on the topics addressed at the discussion, or on any other topics related to customer collateral protection in the context of the Act, may do so via:

• paper submission to David Stawick, Secretary, Commodity Futures Trading Commission, Three Lafayette Centre, 1155 21st Street, NW., Washington, DC 20581; or

• electronic submission to SegBankruptcy@CFTC.gov. (all e-mails should reference “Dodd-Frank Individual Customer Collateral Protection Roundtable” in the subject field).”

All comments must be in English or be accompanied by an English translation. All submissions provided to the CFTC in any electronic form or on paper may be published on the website of the CFTC, without review and without removal of personally identifying information. Please submit only information that you wish to make publicly available.

Dated: October 15, 2010.
By the Commodity Futures Trading Commission.
David A. Stawick,
Secretary.

[FR Doc. 2010-26397 Filed 10-19-10; 8:45 am]

BILLING CODE 6351-01-P